DEPARTMENT OF TRANSPORTATION

Federal Aviation Administration

14 CFR Part 39

[Docket No. FAA-2009-1089; Directorate Identifier 2009-SW-16-AD; Amendment 39-16101; AD 2009-09-51]

RIN 2120-AA64

Airworthiness Directives; Eurocopter France Model EC225LP Helicopters

AGENCY: Federal Aviation Administration, DOT.

ACTION: Final rule; request for comments.

SUMMARY: This document publishes in the Federal Register an amendment adopting Airworthiness Directive (AD) 2009-09-51, which was sent previously to all known U.S. owners and operators of Eurocopter France (Eurocopter) Model EC225LP helicopters by individual letters. This AD requires, before further flight, determining if the “CHIP” detector light on the instrument panel (Vehicle Monitoring System Screen) previously illuminated. If the “CHIP” detector light did illuminate and it illuminated because of a metal particle on the magnetic plug of the epicyclic reduction gear module (module) of the main gearbox (MGB), or if you cannot determine from the maintenance records which chip detector caused the “CHIP” detector light to illuminate or whether the detector light stayed illuminated after the “CHIP” detector switch was turned to the “CHIP PULSE” setting, replacing the module with an airworthy module is required before further flight. Also required before further flight is inspecting the MGB module magnetic chip detector electrical circuit and determining whether the system is functioning properly, including whether the “CHIP” detector light annunciates on the instrument panel (Vehicle Monitoring System Screen). Finally, this AD requires replacing the module with an airworthy module if the “CHIP” detector light illuminates, stays illuminated after the “CHIP” detector switch is turned to the “CHIP PULSE” setting, and you determine that a metal particle on the module magnetic plug caused that illumination. This amendment is prompted by a mandatory continuing airworthiness information (MCAI) AD issued by the European Aviation Safety Agency (EASA), which is the Technical Agent for the Member States of the European Community. EASA notified us of an accident that occurred April 1, 2009 on a Eurocopter Model AS332L2 helicopter and EASA advises that the “cause of the accident seems to be connected with degradation of the epicyclic module of the MGB, the root cause of which is still to be determined.” The actions specified by this AD are intended to prevent failure of the MGB and subsequent loss of control of the helicopter.

DATES: Effective December 28, 2009, to all persons except those persons to whom it was made immediately effective by Emergency AD 2009-09-51, issued on April 17, 2009, which contained the requirements of this amendment.

Comments for inclusion in the Rules Docket must be received on or before February 9, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (972) 641-3460, fax (972) 641-3527, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Gary Roach, Aviation Safety Engineer, FAA, Rotorcraft Directorate, Regulations and Policy Group, Fort Worth, Texas 76137-0111, telephone (817) 222-5130, fax (817) 222-5961.

SUPPLEMENTARY INFORMATION: On April 17, 2009, we issued Emergency AD 2009-09-51 for the Eurocopter Model EC225LP helicopters, which requires, before further flight, determining if the “CHIP” detector light on the instrument panel (Vehicle Monitoring System Screen) previously illuminated. If the “CHIP” detector light did illuminate and it illuminated because of a metal particle on the magnetic plug of the MGB module, or if you cannot determine from the maintenance records which chip detector caused the “CHIP” detector light to illuminate or whether the detector light stayed illuminated after the “CHIP” detector switch was turned to the “CHIP PULSE” setting, replacing the module with an airworthy module is required before further flight. The Emergency AD also requires inspecting the MGB module magnetic chip detector electrical circuit and determining whether the system is functioning properly, including whether the “CHIP” detector light annunciates on the instrument panel (Vehicle Monitoring System Screen). Finally, the Emergency AD requires replacing the module with an airworthy module if the “CHIP” detector light illuminates, stays illuminated after the “CHIP” detector switch is turned to the “CHIP PULSE” setting, and you determine that a metal particle on the module magnetic plug caused that illumination. That action was prompted when EASA, which is the Technical Agent for the Member States of the European Community, notified us of an accident that occurred April 1, 2009 on a Eurocopter Model AS332L2 helicopter. Although the cause of the accident is still under investigation, EASA advises that the “cause of the accident seems to be connected with degradation of the epicyclic module of the MGB, the root cause of which is still to be determined.” EASA further advises that “In the light of this information, the detection of any contamination of the MGB is of utmost importance as a precautionary measure.” EASA issued Emergency AD No. 2009-0087-E, dated April 11, 2009, to correct an unsafe condition for the Eurocopter Model AS332L2 and EC225LP helicopters.

EASA Emergency AD No. 2009-0087-E applies to both the Model AS332L2 helicopters and the Model EC225LP helicopters because both helicopter models use a similar module. However, our AD 2009-09-51 applies only to the Model EC225LP helicopters because there are currently no Model AS332L2 helicopters on the U.S. registry. Also, AD 2009-09-51 differs from the EASA AD in that the EASA AD specifies that the module be disassembled, inspected, and then reinstalled when particles are detected on the magnetic plug of the module, allowing flight operations until another particle is detected. Our AD requires the following before further flight:

• Determining if, within the last 200 hours time-in-service (TIS), the “CHIP” detector light illuminated because of a metal particle on the magnetic plug of the module, part number 332A32-5021-01M, and if so, whether the “CHIP” detector light stayed illuminated after the chip detector switch was turned to the “CHIP PULSE” setting to activate the “fuzz burn-off” feature. If the “CHIP” detector light illuminated because of a metal particle on the magnetic plug of the module, and the “CHIP” detector light stayed illuminated after the chip detector switch was turned to the “CHIP PULSE” setting, or if you cannot determine from the maintenance records which chip detector caused the “CHIP” detector light to illuminate or whether the detector light stayed illuminated after the “CHIP” detector switch was turned to the “CHIP PULSE” setting, replacing the module with an airworthy module is required before further flight.

• Inspecting the MGB module magnetic chip detector electrical circuit and determining whether the system is functioning properly, including whether the “CHIP” detector light annunciates on the instrument panel (Vehicle Monitoring System Screen). Thereafter, the AD requires replacing the module with an airworthy module if the “CHIP” detector light illuminates, stays illuminated after the “CHIP” detector switch is turned to the “CHIP PULSE” setting, and you determine that a metal particle on the module magnetic plug (rather than the main reduction gear (lower MGB), the flared housing (mast assembly), the intermediate gearbox (IGB), or the tail rotor gearbox (TGB)) caused the “CHIP” detector light to illuminate.

Eurocopter has issued Emergency Alert Service Bulletin No. 05A017 (ASB). The ASB is dated April 10, 2009 and describes procedures for inspecting both the magnetic plug on the MGB epicyclic reduction gear module and the chip collector, and instructions to replace the epicyclic reduction gear module if necessary. EASA classified this service bulletin as mandatory and issued EASA AD No. 2009-0087-E, dated April 11, 2009 to ensure the continued airworthiness of these helicopters in France.

This helicopter model is approved by the aviation authority of France, and is approved for operation in the United States. Pursuant to our bilateral agreement with France, EASA has notified us of the unsafe condition described in the MCAI AD. We are issuing this AD because we evaluated all information provided by EASA and determined the unsafe condition exists and is likely to exist or develop on other Eurocopter Model EC225LP helicopters of the same type design.

Since the unsafe condition described is likely to exist or develop on other Eurocopter Model EC225LP helicopters of the same type design, the FAA issued Emergency AD 2009-09-51 to prevent failure of the MGB and subsequent loss of control of the helicopter. The AD requires the actions described previously. The short compliance time involved is required because the previously described critical unsafe condition can adversely affect the controllability of the helicopter. Therefore, this AD must be issued immediately.

Since it was found that immediate corrective action was required, notice and opportunity for prior public comment thereon were impracticable and contrary to the public interest, and good cause existed to make the AD effective immediately by individual letters issued on April 17, 2009 to all known U.S. owners and operators of Eurocopter Model EC225LP helicopters. These conditions still exist, and the AD is hereby published in the Federal Register as an amendment to 14 CFR 39.13 to make it effective to all persons.

This AD is an interim action. We anticipate additional rulemaking once the cause of the accident is determined and the manufacturer develops a terminating action.

We estimate that this AD will affect 2 helicopters of U.S. registry. It will take approximately 10 minutes to inspect the module without removal and 10 work hours to remove and replace the module, if necessary. The average labor rate is $80 per work hour. Required parts will cost approximately $512,318 per helicopter. Based on these figures, we estimate the total cost impact of the AD on U.S. operators to be $513,145, assuming that the module on each helicopter is inspected once and one of the modules is replaced.

Comments Invited

This AD is a final rule that involves requirements that affect flight safety and was not preceded by notice and an opportunity for public comment; however, we invite you to submit any written data, views, or arguments regarding this AD. Send your comments to an address listed under ADDRESSES. Include “Docket No. FAA-2009-1089; Directorate Identifier 2009-SW-16-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2009-09-51 Eurocopter France: Amendment 39-16101. Docket No. FAA-2009-1089; Directorate Identifier 2009-SW-16-AD.

Applicability: Model EC225LP helicopters with an epicyclic reduction gear module (module), part number 332A32-5021-01M, installed, certificated in any category.

Compliance: Required as indicated, unless accomplished previously.

To prevent failure of the main gearbox (MGB) and subsequent loss of control of the helicopter, accomplish the following:

(a) Before further flight:

(1) Determine from the maintenance records whether, within the last 200 hours time-in-service (TIS), the “CHIP” detector light illuminated because of a metal particle on the magnetic plug of the module, and if so, whether the “CHIP” detector light stayed illuminated after the chip detector switch was turned to the “CHIP PULSE” setting to activate the “fuzz burn-off” feature. If those records indicate that the “CHIP” detector light illuminated because of a metal particle on the magnetic plug of the module, and the “CHIP” detector light stayed illuminated after the chip detector switch was turned to the “CHIP PULSE” setting, replace the module with an airworthy module before further flight. If you cannot determine from the maintenance records which chip detector caused the “CHIP” detector light to illuminate or whether the detector light stayed illuminated after the “CHIP” detector switch was turned to the “CHIP PULSE” setting, replace the module with an airworthy module before further flight. A module with a magnetic plug that attracted a metal particle which activated the “CHIP” detector light within the last 200 hours TIS and was not extinguished when the “CHIP PULSE” was activated is unairworthy.

(2) Inspect the MGB module magnetic chip detector electrical circuit and determine whether the system is functioning properly, including whether the “CHIP” detector light annunciates on the instrument panel (Vehicle Monitoring System Screen).

(b) Thereafter, if the “CHIP” detector light illuminates, stays illuminated after the “CHIP” detector switch is turned to the “CHIP PULSE” setting, and you determine that a metal particle on the module magnetic plug (rather than the main reduction gear (lower MGB), the flared housing (mast assembly), the intermediate gearbox (IGB), or the tail rotor gearbox (TGB)) caused the “CHIP” detector light to illuminate, replace the module with an airworthy module.

(c) To request a different method of compliance or a different compliance time for this AD, follow the procedures in 14 CFR 39.19. Contact the Manager, Safety Management Group, FAA, ATTN: Gary Roach, Aviation Safety Engineer, FAA, Rotorcraft Directorate, Regulations and Policy Group, Fort Worth, Texas 76137-0111, telephone (817) 222-5130, fax (817) 222-5961, for information about previously approved alternative methods of compliance.

(d) Special flight permits will not be issued.

(e) Copies of the applicable service information may be obtained from American Eurocopter Corporation, 2701 Forum Drive, Grand Prairie, TX 75053-4005, telephone (972) 641-3460, fax (972) 641-3527, or at http://www.eurocopter.com.

(f) This amendment becomes effective on December 28, 2009, to all persons except those persons to whom it was made immediately effective by Emergency AD 2009-09-51, issued April 17, 2009, which contained the requirements of this amendment.

Note: The subject of this AD is addressed in European Aviation Safety Agency (EASA) AD No. 2009-0087-E, dated April 11, 2009.

Issued in Fort Worth, Texas, on October 23, 2009.
Mark R. Schilling,
Acting Manager, Rotorcraft Directorate, Aircraft Certification Service.

[FR Doc. E9-29425 Filed 12-10-09; 8:45 am]

BILLING CODE 4910-13-P